DEPARTMENT OF ENERGY

Federal Energy Regulatory Commission

Combined Notice of Filings #1

Take notice that the Commission received the following electric corporate filings:

Docket Numbers: EC24-34-000.

Applicants: Sentinel Energy Center, LLC.

Description: Application for Authorization Under Section 203 of the Federal Power Act of Sentinel Energy Center, LLC.

Filed Date: 12/29/23.

Accession Number: 20231229-5452.

Comment Date: 5 p.m. ET 1/19/24.

Docket Numbers: EC24-35-000.

Applicants: Richland-Stryker Generation LLC.

Description: Application for Authorization Under Section 203 of the Federal Power Act of Richland-Stryker Generation LLC.

Filed Date: 1/2/24.

Accession Number: 20240102-5473.

Comment Date: 5 p.m. ET 1/23/24.

Take notice that the Commission received the following Complaints and Compliance filings in EL Dockets:

Docket Numbers: EL24-19-000; QF23-400-001; QF23-402-001; QF23-403-001; QF23-404-001; QF23-409-001; QF23-411-001; QF23-412-001; QF23-413-001; QF23-414-001; QF23-415-001; QF23-416-001; QF23-417-001; QF23-418-001; QF23-419-001; QF23-420-001; QF23-426-001; QF23-427-001; QF23-429-001; QF23-431-001; QF23-432-001; QF23-464-001; QF23-467-001; QF23-469-001; QF23-502-001; QF23-503-001; QF23-537-001; QF23-539-001; QF23-540-001; QF23-543-001; QF23-544-001; QF23-545-001; QF23-548-001; QF23-717-001; QF23-721-001; QF23-725-001; QF23-774-001; QF23-855-001; QF23-984-001.

Applicants: Prologis Targeted U.S. Logistics Fund, L.P., Sequoia Solar 2, LLC, ESNJ-PLD-EDISON5, LLC, ESCA-PLD-TRACY6, LLC, ESNJ-PLD-WOODBRIDGE4, LLC, ESNJ-PLD-JAMESBURG1, LLC, ESNJ-PLD-SOUTHBRUNSWICK5, LLC, ESNJ-PLD-SOUTHBRUNSWICK7, LLC, ESNJ-PLD-SOUTHBRUNSWICK2, LLC, ESCA-PLD-ANAHEIM1, LLC, ESNJ-PLD-CRANBURY1, LLC, ESNJ-PLD-CRANBURY2, LLC, ESCA-PLD-TRACY5, LLC, ESNJ-PLD-EDISON1, LLC, Sequoia Solar 3 LLC, ESNJ-PLD-WOODBRIDGE1, LLC, Sequoia Solar 1 LLC, ESNJ-PLD-EASTBRUNSWICK1, LLC, ESNJ-PLD-SOUTHBRUNSWICK8, LLC, ESCA-PLD-RIALTO1, LLC, ODT Solar LLC, ESNJ-PLD-WOODBRIDGE2, LLC, ESNJ-PLD-CARTERET8, LLC, ESCA-PLD-TRACY3, LLC, ESCA-PLD-TRACY1, LLC, ESCA-PLD-TRACY10, LLC, ESCA-PLD-TRACY2, LLC, ESNJ-PLD-SOUTHBRUNSWICK1, LLC, ESNJ-PLD-EDISON9, LLC, ESNJ-PLD-EDISON2, LLC, ESNJ-PLD-EDISON3, LLC, ESNJ-PLD-EDISON6, LLC, ESNJ-PLD-EDISON5, LLC, ESNY-PLD-JFKC, LLC, ESNY-PLD-JFKD, LLC, ESNY-PLD-JFKCB, LLC, ESNY-PLD-JFKCA, LLC, ESNJ-PLD-ELIZABETH1, LLC, Prologis Inc.

Description: Petition for Declaratory Order of Prologis Inc., et al.

Filed Date: 11/16/23.

Accession Number: 20231116-5196.

Comment Date: 5 p.m. ET 2/2/24.

Take notice that the Commission received the following electric rate filings:

Docket Numbers: ER10-1427-008; ER18-1343-017; ER19-529-014; ER19-1074-014; ER19-1075-014; ER19-1819-007; ER19-1820-007; ER19-1821-007; ER19-2728-005; ER19-2729-005; ER21-2426-003; ER22-1010-006.

Applicants: TerraForm IWG Acquisition Holdings II, LLC, CPRE 1 Lessee, LLC, Lily Solar Lessee, LLC, Lily Solar LLC, Speedway Solar NC, LLC, Stony Knoll Solar, LLC, Broad River Solar, LLC, Brookfield Renewable Energy Marketing US LLC, Brookfield Energy Marketing Inc., Brookfield Renewable Trading and Marketing LP, Carolina Solar Power, LLC, Brookfield Energy Marketing LP.

Description: Triennial Market Power Analysis and Notice of Change of Status for Southeast Region of Brookfield Energy Marketing LP, et al.

Filed Date: 1/2/24.

Accession Number: 20240102-5475.

Comment Date: 5 p.m. ET 3/4/24.

Docket Numbers: ER10-1484-032; ER12-2381-018; ER13-1069-021; ER14-1140-008.

Applicants: Inspire Energy Holdings, LLC, MP2 Energy LLC, MP2 Energy NE LLC, Shell Energy North America (US), L.P.

Description: Triennial Market Power Analysis and Change in Status for Southeast Region of Shell Energy North America (US), L.P., et al.

Filed Date: 1/2/24.

Accession Number: 20240102-5479.

Comment Date: 5 p.m. ET 3/4/24.

Docket Numbers: ER10-1946-019; ER10-2201-007; ER13-291-006; ER14-2140-016; ER14-2141-016; ER20-57-006; ER20-58-006; ER20-339-006; ER20-422-006.

Applicants: FL Solar 1, LLC, Twiggs County Solar, LLC, FL Solar 4, LLC, GA Solar 3, LLC, Selmer Farm, LLC, Mulberry Farm, LLC, EnergyMark, LLC, Marina Energy, LLC, Broad River Energy LLC.

Description: Triennial Market Power Analysis for Southeast Region of Broad River Energy LLC, et al.

Filed Date: 1/2/24.

Accession Number: 20240102-5478.

Comment Date: 5 p.m. ET 3/4/24.

Docket Numbers: ER10-2063-005.

Applicants: Otter Tail Power Company.

Description: Triennial Market Power Analysis for Central Region of Otter Tail Power Company.

Filed Date: 12/29/23.

Accession Number: 20231229-5450.

Comment Date: 5 p.m. ET 2/27/24.

Docket Numbers: ER10-2984-064.

Applicants: Merrill Lynch Commodities, Inc.

Description: Triennial Market Power Analysis for Central Region of Merrill Lynch Commodities, Inc.

Filed Date: 12/29/23.

Accession Number: 20231229-5451.

Comment Date: 5 p.m. ET 2/27/24.

Docket Numbers: ER10-3100-015; ER10-3107-015.

Applicants: Walton County Power, LLC, MPC Generating, LLC.

Description: Triennial Market Power Analysis for Southeast Region of MPC Generating, LLC, et al.

Filed Date: 1/2/24.

Accession Number: 20240102-5472.

Comment Date: 5 p.m. ET 3/4/24.

Docket Numbers: ER10-3125-016.

Applicants: AL Sandersville, LLC.

Description: Triennial Market Power Analysis for Southeast Region of AL Sandersville, LLC.

Filed Date: 1/2/24.

Accession Number: 20240102-5469.

Comment Date: 5 p.m. ET 3/4/24.

Docket Numbers: ER13-2490-013; ER17-311-009; ER17-1742-009; ER19-53-005; ER19-2595-008; ER19-2670-008; ER19-2671-008; ER19-2672-008; ER20-1073-007; ER20-2510-007; ER20-2512-007; ER20-2515-007; ER20-2663-007; ER21-2406-006; ER21-2407-006; ER21-2408-006; ER21-2409-006; ER21-2638-006; ER22-734-005; ER22-2028-004; ER22-2421-003; ER22-2423-003; ER22-2424-002; ER22-2425-003; ER22-2426-002; ER22-2427-003; ER22-2428-002; ER23-1237-001; ER23-2186-001; ER23-2188-001; ER23-2190-001; ER23-2512-001; ER23-2513-001; ER23-2522-002; ER23-2523-002; ER23-2524-002.

Applicants: SR Lambert II, LLC, SR Lambert I, LLC, SR Georgetown, LLC, SR Canadaville Lessee, LLC, SR Canadaville, LLC, SR DeSoto III, LLC, SR DeSoto III Lessee, LLC, SR DeSoto II, LLC, SR Snipesville III, LLC, SR McKellar Lessee, LLC, SR Cedar Springs, LLC, SR McKellar, LLC, SR Clay, LLC, SR Bell Buckle, LLC, SR DeSoto I Lessee, LLC, SR DeSoto I, LLC, SR Hazlehurst, LLC, SR Arlington, LLC, SR Perry, LLC, SR Snipesville II, LLC, SR Lumpkin, LLC, SR Georgia Portfolio II Lessee, LLC, Lancaster Solar LLC, SR Snipesville, LLC, SR Georgia Portfolio I MT, LLC, SR Baxley, LLC, Odom Solar LLC, SR Terrell, LLC, SR Arlington II MT, LLC, SR Arlington II, LLC, SR Meridian III, LLC, SR Hazlehurst III, LLC, SR Millington, LLC, Hattiesburg Farm, LLC, SR South Loving LLC, Simon Solar, LLC.

Description: Triennial Market Power Analysis for Southeast Region of Simon Solar, LLC, et al.

Filed Date: 1/2/24.

Accession Number: 20240102-5476.

Comment Date: 5 p.m. ET 3/4/24.

Docket Numbers: ER17-1320-004; ER17-2281-003; ER17-2282-003; ER19-135-003; ER20-64-003; ER20-65-003; ER21-653-003; ER21-654-003; ER21-856-004; ER21-857-004; ER21-1396-002; ER21-1397-002; ER21-2689-002; ER21-2690-002; ER21-2764-002; ER21-2769-002; ER22-19-002; ER22-20-002; ER22-215-002; ER22-216-002; ER22-2399-001; ER22-2400-001; ER22-2401-001; ER22-2403-001; ER22-2404-001; ER22-2405-001; ER22-2406-001; ER22-2407-001; ER22-2410-001; ER22-2411-001; ER22-2412-001; ER22-2413-001; ER22-2816-001; ER22-2817-001; ER23-726-001; ER23-727-001; ER23-1413-001; ER23-1414-001; ER23-1415-001; ER23-1416-001; ER23-2933-001; ER23-2934-001; ER24-672-001; ER24-673-001.

Applicants: PGR 2022 Lessee 5, LLC, Moonshot Solar, LLC, PGR 2022 Lessee 4, LLC, Cane Creek Solar, LLC, PGR 2022 Lessee 1, LLC, Virginia Line Solar, LLC, PGR 2021 Lessee 18, LLC, Landrace Holdings, LLC, PGR 2022 Lessee 2, LLC, Fresh Air Energy XXIII, LLC, Eastover Solar LLC, PGR 2021 Lessee 17, LLC, PGR 2021 Lessee 9, LLC, Bulldog Solar, LLC, PGR 2021 Lessee 13, LLC, Sonny Solar, LLC, PGR 2021 Lessee 19, LLC, Allora Solar, LLC, PGR 2021 Lessee 15, LLC, Gunsight Solar, LLC, PGR 2021 Lessee 12, LLC, Cabin Creek Solar, LLC, PGR 2021 Lessee 11, LLC, Phobos Solar, LLC, PGR 2021 Lessee 2, LLC, Beulah Solar, LLC, PGR 2021 Lessee 1, LLC, Stanly Solar, LLC, PGR 2021 Lessee 7, LLC, Highest Power Solar, LLC, PGR 2021 Lessee 5, LLC, Lick Creek Solar, LLC, PGR 2020 Lessee 8, LLC, Sugar Solar, LLC, Trent River Solar, LLC, PGR Lessee P, LLC, PGR Lessee O, LLC, Centerfield Cooper Solar, LLC, TWE Bowman Solar Project, LLC, PGR Lessee L, LLC, Peony Solar LLC, Champion Solar, LLC, Swamp Fox Solar, LLC, Odyssey Solar, LLC.

Description: Triennial Market Power Analysis for Southeast Region of Odyssey Solar, LLC, et al.

Filed Date: 1/2/24.

Accession Number: 20240102-5471.

Comment Date: 5 p.m. ET 3/4/24.

Docket Numbers: ER17-1794-006.

Applicants: Innovative Solar 42, LLC.

Description: Triennial Market Power Analysis for Southeast Region of Innovative Solar 42, LLC.

Filed Date: 1/2/24.

Accession Number: 20240102-5482.

Comment Date: 5 p.m. ET 3/4/24.

Docket Numbers: ER18-1906-008; ER16-221-009; ER18-1907-008; ER17-1757-009; ER10-1767-011; ER21-2349-003; ER13-2349-010; ER10-1541-012; ER10-1642-013; ER21-2350-003.

Applicants: MS Sunflower Project Company, LLC, EWO Marketing, Inc., Entergy Power, LLC, EAM Nelson Holding, LLC, AR Searcy Project Company, LLC, Entergy Texas, Inc., Entergy New Orleans, LLC, Entergy Mississippi, LLC, Entergy Louisiana, LLC, Entergy Arkansas, LLC.

Description: Triennial Market Power Analysis for Central Region of Entergy Arkansas, LLC, et al.

Filed Date: 12/29/23.

Accession Number: 20231229-5449.

Comment Date: 5 p.m. ET 2/27/24.

Docket Numbers: ER19-2429-009.

Applicants: Brookfield Smoky Mountain Hydropower LP.

Description: Triennial Market Power Analysis for Southeast Region of Brookfield Smoky Mountain Hydropower LP.

Filed Date: 1/2/24.

Accession Number: 20240102-5468.

Comment Date: 5 p.m. ET 3/4/24.

Docket Numbers: ER21-1755-006; ER23-1642-003; ER14-2498-014; ER14-2500-014.

Applicants: Newark Energy Center, LLC, EIF Newark, LLC, Stored Solar J&WE, LLC, Hartree Partners, LP.

Description: Triennial Market Power Analysis Southeast Region of Newark Energy Center, LLC, et al.

Filed Date: 1/2/24.

Accession Number: 20240102-5481.

Comment Date: 5 p.m. ET 3/4/24.

Docket Numbers: ER24-8-001.

Applicants: PJM Interconnection, L.L.C.

Description: Tariff Amendment: Submission of Response to Deficiency Letter, ISA, SA No. 7092, ICSA, SA No. 7093 to be effective 12/1/2023.

Filed Date: 1/2/24.

Accession Number: 20240102-5434.

Comment Date: 5 p.m. ET 1/23/24.

Docket Numbers: ER24-804-000.

Applicants: PATH West Virginia Transmission Company, PJM Interconnection, L.L.C.

Description: 205(d) Rate Filing: PATH West Virginia Transmission Company submits tariff filing per 35.13(a)(2)(iii: PATH Notice of Cancellation of OATT Attachments H-19, H-19A, and H-19B to be effective 1/10/2024.

Filed Date: 1/2/24.

Accession Number: 20240102-5406.

Comment Date: 5 p.m. ET 1/23/24.

Docket Numbers: ER24-805-000.

Applicants: Entergy Arkansas, LLC.

Description: 205(d) Rate Filing: Updated LBA Agreement to be effective 3/2/2024.

Filed Date: 1/2/24.

Accession Number: 20240102-5427.

Comment Date: 5 p.m. ET 1/23/24.

Docket Numbers: ER24-806-000.

Applicants: Entergy Arkansas, LLC.

Description: 205(d) Rate Filing: EAL-AECC Wholesale Distribution Agreement to be effective 3/2/2024.

Filed Date: 1/2/24.

Accession Number: 20240102-5428.

Comment Date: 5 p.m. ET 1/23/24.

Docket Numbers: ER24-807-000.

Applicants: Versant Power.

Description: 205(d) Rate Filing: Establish Regulatory Asset for Recovery Through Rates for MPD to be effective 6/1/2025.

Filed Date: 1/3/24.

Accession Number: 20240103-5074.

Comment Date: 5 p.m. ET 1/24/24.

Docket Numbers: ER24-808-000.

Applicants: Southwest Power Pool, Inc.

Description: 205(d) Rate Filing: 1139R7 Southwestern Public Service Company NITSA NOA Cancellation to be effective 12/19/2023.

Filed Date: 1/3/24.

Accession Number: 20240103-5078.

Comment Date: 5 p.m. ET 1/24/24.

Docket Numbers: ER24-809-000.

Applicants: PJM Interconnection, L.L.C.

Description: 205(d) Rate Filing: Amendment to WMPA, Service Agreement No. 5556; Queue No. AE1-123 to be effective 3/4/2024.

Filed Date: 1/3/24.

Accession Number: 20240103-5102.

Comment Date: 5 p.m. ET 1/24/24.

Docket Numbers: ER24-810-000.

Applicants: PJM Interconnection, L.L.C.

Description: 205(d) Rate Filing: Original ISA, Service Agreement No. 7151; Queue No. AE1-059 to be effective 12/4/2023.

Filed Date: 1/3/24.

Accession Number: 20240103-5133.

Comment Date: 5 p.m. ET 1/24/24.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 3, 2024.
Debbie-Anne A. Reese,
Acting Secretary.

[FR Doc. 2024-00222 Filed 1-8-24; 8:45 am]

BILLING CODE 6717-01-P